ENVIRONMENTAL PROTECTION AGENCY

40 CFR Parts 60, 61 and 63

[EPA-R09-OAR-2017-0071; FRL-9961-79-Region 9]

Delegation of New Source Performance Standards and National Emission Standards for Hazardous Air Pollutants for the States of Arizona and Nevada

AGENCY: Environmental Protection Agency (EPA).

ACTION: Direct final rule.

SUMMARY: The Environmental Protection Agency (EPA) is taking direct final action to update the Code of Federal Regulations delegation tables to reflect the current delegation status of New Source Performance Standards and National Emission Standards for Hazardous Air Pollutants in Arizona and Nevada.

DATES: This rule is effective on July 10, 2017 without further notice, unless EPA receives adverse comments by June 12, 2017. If we receive such comments, we will publish a timely withdrawal in the Federal Register to notify the public that this direct final rule will not take effect.

ADDRESSES: Submit your comments, identified by Docket ID No. EPA-R09-OAR-2017-0071 at https://www.regulations.gov, or via email to Steckel.Andrew@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Jeffrey Buss, EPA Region IX, (415) 947-4152, buss.jeffrey@epa.gov.

SUPPLEMENTARY INFORMATION: Throughout this document, “we”, “us,” and “our” refer to the EPA.

Table of Contents

I. Background

A. What is the purpose of this document?

B. Who is authorized to delegate these authorities?

C. What does delegation accomplish?

D. What authorities are not delegated by the EPA?

E. Does the EPA keep some authority?

II. EPA Action

III. Statutory and Executive Order Reviews

I. Background

A. What is the purpose of this document?

Through this document, the EPA is accomplishing the following objectives:

(1) Update the delegation tables in the Code of Federal Regulations, Title 40 (40 CFR), parts 60, 61 and 63 to provide an accurate listing of the delegated New Source Performance Standards (NSPS) and National Emission Standards for Hazardous Air Pollutants (NESHAP); and

(2) Clarify those authorities that the EPA retains and are not granted to state or local agencies as part of NSPS or NESHAP delegation.

Update of Tables in the CFR

This action will update the delegation tables in 40 CFR parts 60, 61 and 63, to allow easier access by the public to the status of delegations in various state or local jurisdictions. The updated delegation tables will include the delegations approved in response to recent requests, as well as those previously granted. The tables are shown at the end of this document, under 40 CFR 63.99.

Recent requests for delegation that will be incorporated into the updated 40 CFR parts 60, 61 and 63 tables are identified below. Each individual submittal identifies the specific NSPS and NESHAP for which delegation was requested. The requests have already been approved by letter and simply need to be included in the CFR tables.

Agency | Date of request | Date of approval by letter
Arizona Department of Environmental Quality | January 11, 2016 | August 22, 2016.
Maricopa County Air Quality Department | May 9, 2014; January 8, 2015; January 8, 2016; January 11, 2017 | November 5, 2014; August 11, 2015; August 22, 2016; February 8, 2017.
Pima County Department of Environmental Quality | November 30, 2016 | February 8, 2017.
Nevada Division of Environmental Protection | January 10, 2014; and November 25, 2015 | July 10, 2014; and August 17, 2016.
Clark County Department of Air Quality and Environmental Management | August 19, 2015 | September 25, 2015.

B. Who is authorized to delegate these authorities?

Sections 111(c)(1) and 112(l) of the Clean Air Act, as amended in 1990, authorize the Administrator to delegate his or her authority for implementing and enforcing standards in 40 CFR parts 60, 61 and 63.

C. What does delegation accomplish?

Delegation grants a state or local agency the primary authority to implement and enforce federal standards. All required notifications and reports should be sent to the delegated state or local agency with a copy to EPA Region IX, as appropriate. Acceptance of delegation constitutes agreement by the state or local agency to follow 40 CFR parts 60, 61 and 63, and the EPA's test methods and continuous monitoring procedures.

D. What authorities are not delegated by the EPA?

In general, the EPA does not delegate to state or local agencies the authority to make decisions that are likely to be nationally significant, or alter the stringency of the underlying standards. For a more detailed description of the authorities in 40 CFR parts 60 and 61 that are retained by the EPA, see 67 FR 20652 (April 26, 2002). For a more detailed description of the authorities in 40 CFR part 63 that are retained by the EPA, see 65 FR 55810 (September 14, 2000).

As additional assurance of national consistency, state and local agencies must send to EPA Region IX Enforcement Division's Air Section Chief a copy of any written decisions made pursuant to the following delegated authorities:

• Applicability determinations that state a source is not subject to a rule or requirement;

• approvals or determination of construction, reconstruction, or modification;

• minor or intermediate site-specific changes to test methods or monitoring requirements; or

• site-specific changes or waivers of performance testing requirements.

For decisions that require EPA review and approval (for example, major changes to monitoring requirements), the EPA intends to make determinations in a timely manner.

In some cases, the standards themselves specify that specific provisions cannot be delegated. State and local agencies should review each individual standard for this information.

E. Does the EPA keep some authority?

The EPA retains independent authority to enforce the standards and regulations of 40 CFR parts 60, 61 and 63.

II. EPA Action

This document serves to notify the public that the EPA is updating the 40 CFR parts 60, 61 and 63 tables for Arizona and Nevada to codify recent delegations of NSPS and NESHAP as authorized under Sections 111(c)(1) and 112(1)(l) of the Clean Air Act.

III. Statutory and Executive Order Reviews

Under the Clean Air Act, the Administrator is required to approve delegation requests that comply with the provisions of the Act and applicable federal regulations. 42 U.S.C. Sections 7410(c) and 7412(l). Thus, in reviewing delegation submissions, the EPA's role is to approve State choices, provided that they meet the criteria of the Clean Air Act. Accordingly, this action merely approves State law as meeting federal requirements and does not impose additional requirements beyond those imposed by State law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, the delegation submissions are not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Parts 60, 61, and 63

Environmental protection, Administrative practice and procedure, Air pollution control, Hazardous substances, Intergovernmental relations, Reporting and recordkeeping requirements.

Dated: March 24, 2017.
Elizabeth J. Adams,
Acting Director, Air Division, Region IX.

For the reasons set out in the preamble, title 40, chapter I, of the Code of Federal Regulations is amended as follows:

PART 60—STANDARDS OF PERFORMANCE FOR NEW STATIONARY SOURCES

1. The authority citation for part 60 continues to read as follows:

Authority: 42 U.S.C. 7401 et seq.

Subpart A—General Provisions

2. Section 60.4 is amended by revising the tables in paragraphs (d)(1) and (4) to read as follows:

§ 60.4 Address.

(d) * * *

(1) * * *

Delegation Status for New Source Performance Standards for Arizona
| Subpart | Air pollution control agency: Arizona DEQ | Air pollution control agency: Maricopa County | Air pollution control agency: Pima County | Air pollution control agency: Pinal County
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X | X
Eb | Large Municipal Waste Combustors Constructed After September 20, 1994 | X | X | X |
Ec | Hospital/Medical/Infectious Waste Incinerators for Which Construction is Commenced After June 20, 1996 | X | X | X |
F | Portland Cement Plants | X | X | X | X
G | Nitric Acid Plants | X | X | X | X
Ga | Nitric Acid Plants For Which Construction, Reconstruction or Modification Commenced After October 14, 2011 |  | X | X |
H | Sulfuric Acid Plant | X | X | X | X
I | Hot Mix Asphalt Facilities | X | X | X | X
J | Petroleum Refineries | X | X | X | X
Ja | Petroleum Refineries for Which Construction, Reconstruction, or Modification Commenced After May 14, 2007 |  | X | X |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
BBa | Kraft Pulp Mill Sources for which Construction, Reconstruction or Modification Commenced after May 23, 2013 |  | X | X |
CC | Glass Manufacturing Plants | X | X | X | X
DD | Grain Elevators | X | X | X | X
EE | Surface Coating of Metal Furniture | X | X | X | X
FF | (Reserved) |  |  |  |
Ga | Nitric Acid Plants for which Construction, Reconstruction or Modification Commenced after October 14, 2011 |  | X |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 | X | X | X |
WW | Beverage Can Surface Coating Industry | X | X | X | X
XX | Bulk Gasoline Terminals | X | X | X | X
AAA | New Residential Wood Heaters | X | X | X | X
BBB | Rubber Tire Manufacturing Industry | X | X | X | X
CCC | (Reserved) |  |  |  |
DDD | Volatile Organic Compounds (VOC) Emissions from the Polymer Manufacturing Industry | X | X | X | X
EEE | (Reserved) |  |  |  |
FFF | Flexible Vinyl and Urethane Coating and Printing | X | X | X | X
GGG | Equipment Leaks of VOC in Petroleum Refineries | X | X | X | X
GGGa | Equipment Leaks of VOC in Petroleum Refineries for Which Construction, Reconstruction, or Modification Commenced After November 7, 2006 | X | X | X |
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes | X | X |  |
SSS | Magnetic Tape Coating Facilities | X | X | X | X
TTT | Industrial Surface Coating: Surface Coating of Plastic Parts for Business Machines | X | X | X | X
UUU | Calciners and Dryers in Mineral Industries | X | X | X |
VVV | Polymeric Coating of Supporting Substrates Facilities | X | X | X | X
WWW | Municipal Solid Waste Landfills | X | X | X |
AAAA | Small Municipal Waste Combustion Units for Which Construction is Commenced After August 30, 1999 or for Which Modification or Reconstruction is Commended After June 6, 2001 | X | X | X |
CCCC | Commercial and Industrial Solid Waste Incineration Units for Which Construction Is Commenced After November 30, 1999 or for Which Modification or Reconstruction Is Commenced on or After June 1, 2001 | X | X | X |
EEEE | Other Solid Waste Incineration Units for Which Construction is Commenced After December 9, 2004, or for Which Modification or Reconstruction is Commenced on or After June 16, 2006 | X | X | X |
GGGG | (Reserved) |  |  |  |
HHHH | (Reserved) |  |  |  |
IIII | Stationary Compression Ignition Internal Combustion Engines | X | X | X |
JJJJ | Stationary Spark Ignition Internal Combustion Engines |  | X | X |
KKKK | Stationary Combustion Turbines | X | X | X |
LLLL | New Sewage Sludge Incineration Units |  |  | X |
MMMM | Emissions Guidelines and Compliance Times for Existing Sewage Sludge Incineration Units | X |  |  |
OOOO | Crude Oil and Natural Gas Production, Transmission, and Distribution |  | X | X |
QQQQ | Standards of Performance for New Residential Hydronic Heaters and Forced-Air Furnaces |  | X | X |
TTTT | Standards of Performance for Greenhouse Gas Emissions for Electric Generating Units |  | X |  |

* * * * *

(4) * * *

Delegation Status for New Source Performance Standards for Nevada
| Subpart | Air pollution control agency: Nevada DEP | Air pollution control agency: Clark County | Air pollution control agency: Washoe County
A | General Provisions | X | X | X
D | Fossil-Fuel Fired Steam Generators Constructed After August 17, 1971 | X | X | X
Da | Electric Utility Steam Generating Units Constructed After September 18, 1978 | X | X |
Db | Industrial-Commercial-Institutional Steam Generating Units | X | X |
Dc | Small Industrial-Commercial-Institutional Steam Generating Units | X | X |
E | Incinerators | X | X | X
Ea | Municipal Waste Combustors Constructed After December 20, 1989 and On or Before September 20, 1994 | X | X |
Eb | Large Municipal Waste Combustors Constructed After September 20, 1994 | X | X |
Ec | Hospital/Medical/Infectious Waste Incinerators for Which Construction is Commenced After June 20, 1996 | X | X |
F | Portland Cement Plants | X | X | X
G | Nitric Acid Plants | X | X |
Ga | Nitric Acid Plants For Which Construction, Reconstruction or Modification Commenced After October 14, 2011 | X |  |
H | Sulfuric Acid Plant | X | X |
I | Hot Mix Asphalt Facilities | X | X | X
J | Petroleum Refineries | X | X |
Ja | Petroleum Refineries for Which Construction, Reconstruction, or Modification Commenced After May 14, 2007 | X |  |
K | Storage Vessels for Petroleum Liquids for Which Construction, Reconstruction, or Modification Commenced After June 11, 1973, and Prior to May 19, 1978 | X | X | X
Ka | Storage Vessels for Petroleum Liquids for Which Construction, Reconstruction, or Modification Commenced After May 18, 1978, and Prior to July 23, 1984 | X | X | X
Kb | Volatile Organic Liquid Storage Vessels (Including Petroleum Liquid Storage Vessels) for Which Construction, Reconstruction, or Modification Commenced After July 23, 1984 | X | X |
L | Secondary Lead Smelters | X | X | X
M | Secondary Brass and Bronze Production Plants | X | X |
N | Primary Emissions from Basic Oxygen Process Furnaces for Which Construction is Commenced After June 11, 1973 | X | X |
Na | Secondary Emissions from Basic Oxygen Process Steelmaking Facilities for Which Construction is Commenced After January 20, 1983 | X | X |
O | Sewage Treatment Plants | X | X | X
P | Primary Copper Smelters | X | X | X
Q | Primary Zinc Smelters | X | X | X
R | Primary Lead Smelters | X | X | X
S | Primary Aluminum Reduction Plants | X | X |
T | Phosphate Fertilizer Industry: Wet Process Phosphoric Acid Plants | X | X |
U | Phosphate Fertilizer Industry: Superphosphoric Acid Plants | X | X |
V | Phosphate Fertilizer Industry: Diammonium Phosphate Plants | X | X |
W | Phosphate Fertilizer Industry: Triple Superphosphate Plants | X | X |
X | Phosphate Fertilizer Industry: Granular Triple Superphosphate Storage Facilities | X | X |
Y | Coal Preparation and Processing Plants | X | X | X
Z | Ferroalloy Production Facilities | X | X |
AA | Steel Plants: Electric Arc Furnaces Constructed After October 21, 1974 and On or Before August 17, 1983 | X | X |
AAa | Steel Plants: Electric Arc Furnaces and Argon-Oxygen Decarburization Vessels Constructed After August 7, 1983 | X | X |
BB | Kraft Pulp Mills | X | X |
CC | Glass Manufacturing Plants | X | X |
DD | Grain Elevators | X | X | X
EE | Surface Coating of Metal Furniture | X | X | X
FF | (Reserved) |  |  |
GG | Stationary Gas Turbines | X | X | X
HH | Lime Manufacturing Plants | X | X | X
KK | Lead-Acid Battery Manufacturing Plants | X | X | X
LL | Metallic Mineral Processing Plants | X | X | X
MM | Automobile and Light Duty Trucks Surface Coating Operations | X | X | X
NN | Phosphate Rock Plants | X | X | X
PP | Ammonium Sulfate Manufacture | X | X |
QQ | Graphic Arts Industry: Publication Rotogravure Printing | X | X | X
RR | Pressure Sensitive Tape and Label Surface Coating Operations | X | X |
SS | Industrial Surface Coating: Large Appliances | X | X | X
TT | Metal Coil Surface Coating | X | X | X
UU | Asphalt Processing and Asphalt Roofing Manufacture | X | X | X
VV | Equipment Leaks of VOC in the Synthetic Organic Industry Chemicals Manufacturing | X | X | X
VVa | Equipment Leaks of VOC in the Synthetic Organic Industry for Which Construction, Reconstruction, or Chemicals Manufacturing Modification Commenced After November 7, 2006 | X | X |
WW | Beverage Can Surface Coating Industry | X | X |
XX | Bulk Gasoline Terminals | X | X |
AAA | New Residential Wood Heaters |  | X |
BBB | Rubber Tire Manufacturing Industry | X | X |
CCC | (Reserved) |  |  |
DDD | Volatile Organic Compounds (VOC) Emissions from the Polymer Manufacturing Industry | X | X |
EEE | (Reserved) |  |  |
FFF | Flexible Vinyl and Urethane Coating and Printing | X | X |
GGG | Equipment Leaks of VOC in Petroleum Refineries | X | X |
GGGa | Equipment Leaks of VOC in Petroleum Refineries for Which Construction, Reconstruction, or Modification Commenced After November 7, 2006 | X | X |
HHH | Synthetic Fiber Production Facilities | X | X |
III | Volatile Organic Compound (VOC) Emissions From the Synthetic Organic Chemical Manufacturing Industry (SOCMI) Air Oxidation Unit Processes | X | X |
JJJ | Petroleum Dry Cleaners | X | X | X
KKK | Equipment Leaks of VOC From Onshore Natural Gas Processing Plants | X | X |
LLL | Onshore Natural Gas Processing: SO2 Emissions | X | X |
MMM | (Reserved) |  |  |
NNN | Volatile Organic Compound (VOC) Emissions From Synthetic Organic Chemical Manufacturing Industry (SOCMI) Distillation Operations | X | X |
OOO | Nonmetallic Mineral Processing Plants | X | X |
PPP | Wool Fiberglass Insulation Manufacturing Plants | X | X |
QQQ | VOC Emissions From Petroleum Refinery Wastewater Systems | X | X |
RRR | Volatile Organic Compound Emissions from Synthetic Organic Chemical Manufacturing Industry (SOCMI) Reactor Processes | X | X |
SSS | Magnetic Tape Coating Facilities | X | X |
TTT | Industrial Surface Coating: Surface Coating of Plastic Parts for Business Machines | X | X | X
UUU | Calciners and Dryers in Mineral Industries | X | X | X
VVV | Polymeric Coating of Supporting Substrates Facilities | X | X | X
WWW | Municipal Solid Waste Landfills | X | X | X
AAAA | Small Municipal Waste Combustion Units for Which Construction is Commenced After August 30, 1999 or for Which Modification or Reconstruction is Commended After June 6, 2001 | X | X | X
CCCC | Commercial and Industrial Solid Waste Incineration Units for Which Construction Is Commenced After November 30, 1999 or for Which Modification or Reconstruction Is Commenced on or After June 1, 2001 | X | X | X
EEEE | Other Solid Waste Incineration Units for Which Construction is Commenced After December 9, 2004, or for Which Modification or Reconstruction is Commenced on or After June 16, 2006 | X | X | X
GGGG | (Reserved) |  |  |
HHHH | (Reserved) |  |  |
IIII | Stationary Compression Ignition Internal Combustion Engines | X | X | X
JJJJ | Stationary Spark Ignition Internal Combustion Engines | X | X | X
KKKK | Stationary Combustion Turbines | X | X | X
LLLL | New Sewage Sludge Incineration Units |  | X |
OOOO | Crude Oil and Natural Gas Production, Transmission, and Distribution | X |  |

* * * * *

PART 61—NATIONAL EMISSION STANDARDS FOR HAZARDOUS AIR POLLUTANTS

3. The authority citation for part 61 continues to read as follows:

Authority: 42 U.S.C. 7401 et seq.

Subpart A—General Provisions

4. Section 61.04 is amended by revising the table in paragraphs (c)(9)(i) and (iv) to read as follows:

§ 61.04 Address.

(c) * * *

(9) * * *

(i) * * *

Delegation Status for National Emission Standards for Hazardous Air Pollutants for Arizona
| Subpart | Air pollution control agency: Arizona DEQ | Air pollution control agency: Maricopa County | Air pollution control agency: Pima County | Air pollution control agency: Pinal County
A | General Provisions | X | X | X | X
B | Radon Emissions From Underground Uranium Mines |  |  |  |
C | Beryllium | X | X | X | X
D | Beryllium Rocket Motor Firing | X | X | X | X
E | Mercury | X | X | X | X
F | Vinyl Chloride | X | X | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene | X | X | X | X
K | Radionuclide Emissions From Elemental Phosphorus Plants |  |  |  |
L | Benzene Emissions from Coke By-Product Recovery Plants | X | X | X | X
M | Asbestos | X | X | X | X
N | Inorganic Arsenic Emissions From Glass Manufacturing Plants | X | X | X |
O | Inorganic Arsenic Emissions From Primary Copper Smelters | X | X | X |
P | Inorganic Arsenic Emissions From Arsenic Trioxide and Metallic Arsenic Production Facilities | X | X |  |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) | X | X | X | X
W | Radon Emissions From Operating Mill Tailings |  |  |  |
X | (Reserved) |  |  |  |
Y | Benzene Emissions From Benzene Storage Vessels | X | X | X | X
Z-AA | (Reserved) |  |  |  |
BB | Benzene Emissions From Benzene Transfer Operations | X | X | X | X
CC-EE | (Reserved) |  |  |  |
FF | Benzene Waste Operations | X | X | X | X

* * * * *

(iv)

Delegation Status for National Emissions Standards for Hazardous Air Pollutants for Nevada
| Subpart | Air pollution control agency: Nevada DEP | Air pollution control agency: Clark County | Air pollution control agency: Washoe County
A | General Provisions | X | X |
B | Radon Emissions From Underground Uranium Mines |  |  |
C | Beryllium | X | X | X
D | Beryllium Rocket Motor Firing | X | X |
E | Mercury | X | X |
F | Vinyl Chloride | X | X |
G | (Reserved) |  |  |
H | Emissions of Radionuclides Other Than Radon From Department of Energy Facilities | X |  |
I | Radionuclide Emissions From Federal Facilities Other Than Nuclear Regulatory Commission Licensees and Not Covered by Subpart H | X |  |
J | Equipment Leaks (Fugitive Emission Sources) of Benzene | X | X |
K | Radionuclide Emissions From Elemental Phosphorus Plants | X |  |
L | Benzene Emissions from Coke By-Product Recovery Plants | X | X |
M | Asbestos |  | X | X
N | Inorganic Arsenic Emissions From Glass Manufacturing Plants | X | X |
O | Inorganic Arsenic Emissions From Primary Copper Smelters | X | X |
P | Inorganic Arsenic Emissions From Arsenic Trioxide and Metallic Arsenic Production Facilities | X | X |
Q | Radon Emissions From Department of Energy Facilities |  |  |
R | Radon Emissions From Phosphogypsum Stacks |  |  |
S | (Reserved) |  |  |
T | Radon Emissions From the Disposal of Uranium Mill Tailings |  |  |
U | (Reserved) |  |  |
V | Equipment Leaks (Fugitive Emission Sources) | X | X |
W | Radon Emissions From Operating Mill Tailings |  |  |
X | (Reserved) |  |  |
Y | Benzene Emissions From Benzene Storage Vessels | X | X |
Z-AA | (Reserved) |  |  |
BB | Benzene Emissions From Benzene Transfer Operations | X | X |
CC-EE | (Reserved) |  |  |
FF | Benzene Waste Operations | X | X |

* * * * *

PART 63—NATIONAL EMISSION STANDARDS FOR HAZARDOUS AIR POLLUTANTS FOR SOURCE CATEGORIES

5. The authority citation for part 63 continues to read as follows:

Authority: 42 U.S.C. 7401 et seq.

Subpart E—Approval of State Programs and Delegation of Federal Authorities

6. Section 63.99 is amended by revising the table in paragraphs (a)(3)(i) and (a)(29)(i) to read as follows:

§ 63.99 Delegated Federal authorities.

(a) * * *

(3) * * *

(i) * * *

Delegation Status for Part 63 Standards—Arizona
Subpart | Description | ADEQ ¹ | MCAQD ² | PDEQ ³ | PCAQCD ⁴ | GRIC ⁵
A | General Provisions | X | X | X | X | X
F | Synthetic Organic Chemical Manufacturing Industry | X | X | X | X | X
G | Synthetic Organic Chemical Manufacturing Industry: Process Vents, Storage Vessels, Transfer Operations, and Wastewater | X | X | X | X | X
H | Organic Hazardous Air Pollutants: Equipment Leaks | X | X | X | X | X
I | Organic Hazardous Air Pollutants: Certain Processes Subject to the Negotiated Regulation for Equipment Leaks | X | X | X | X | X
J | Polyvinyl Chloride and Copolymers Production | X | X | X |  | X
L | Coke Oven Batteries | X | X | X | X | X
M | Perchloroethylene Dry Cleaning | X | X | X | X | X
N | Hard and Decorative Chromium Electroplating and Chromium Anodizing Tanks | X | X | X | X | X
O | Ethylene Oxide Sterilization Facilities | X | X | X | X | X
Q | Industrial Process Cooling Towers | X | X | X | X | X
R | Gasoline Distribution Facilities | X | X | X | X | X
S | Pulp and Paper | X | X | X |  | X
T | Halogenated Solvent Cleaning | X | X | X | X | X
U | Group I Polymers and Resins | X | X | X | X | X
W | Epoxy Resins Production and Non-Nylon Polyamides Production | X | X | X | X | X
X | Secondary Lead Smelting | X | X | X | X | X
Y | Marine Tank Vessel Loading Operations |  | X |  |  | X
AA | Phosphoric Acid Manufacturing Plants | X | X | X |  | X
BB | Phosphate Fertilizers Production Plants | X | X | X |  | X
CC | Petroleum Refineries | X | X | X | X | X
DD | Off-Site Waste and Recovery Operations | X | X | X | X | X
EE | Magnetic Tape Manufacturing Operations | X | X | X | X | X
GG | Aerospace Manufacturing and Rework Facilities | X | X | X | X | X
HH | Oil and Natural Gas Production Facilities | X | X | X |  | X
II | Shipbuilding and Ship Repair (Surface Coating) |  |  |  |  | X
JJ | Wood Furniture Manufacturing Operations | X | X | X | X | X
KK | Printing and Publishing Industry | X | X | X | X | X
LL | Primary Aluminum Reduction Plants | X | X | X |  | X
MM | Chemical Recovery Combustion Sources at Kraft, Soda, Sulfite, and Stand-Alone Semichemical Pulp Mills | X | X | X |  | X
NN | Wool Fiberglass Manufacturing at Area Sources |  | X |  |  |
OO | Tanks—Level 1 | X | X | X | X | X
PP | Containers | X | X | X | X | X
QQ | Surface Impoundments | X | X | X | X | X
RR | Individual Drain Systems | X | X | X | X | X
SS | Closed Vent Systems, Control Devices, Recovery Devices and Routing to a Fuel Gas System or a Process | X | X | X |  | X
TT | Equipment Leaks—Control Level 1 | X | X | X |  | X
UU | Equipment Leaks—Control Level 2 | X | X | X |  | X
VV | Oil-Water Separators and Organic-Water Separators | X | X | X | X | X
WW | Storage Vessels (Tanks)—Control Level 2 | X | X | X |  | X
XX | Ethylene Manufacturing Process Units: Heat Exchange Systems and Waste Operations | X | X | X |  | X
YY | Generic MACT Standards | X | X | X |  | X
CCC | Steel Pickling | X | X | X |  | X
DDD | Mineral Wool Production | X | X | X |  | X
EEE | Hazardous Waste Combustors | X | X | X |  | X
GGG | Pharmaceuticals Production | X | X | X |  | X
HHH | Natural Gas Transmission and Storage Facilities | X | X | X |  | X
III | Flexible Polyurethane Foam Production | X | X | X |  | X
JJJ | Group IV Polymers and Resins | X | X | X | X | X
LLL | Portland Cement Manufacturing Industry | X | X | X |  | X
MMM | Pesticide Active Ingredient Production | X | X | X |  | X
NNN | Wool Fiberglass Manufacturing | X | X | X |  | X
OOO | Manufacture of Amino/Phenolic Resins | X | X | X |  | X
PPP | Polyether Polyols Production | X | X | X |  | X
QQQ | Primary Copper Smelting | X | X | X |  | X
RRR | Secondary Aluminum Production | X | X | X |  | X
TTT | Primary Lead Smelting | X | X | X |  | X
UUU | Petroleum Refineries: Catalytic Cracking, Catalytic Reforming, and Sulfur Recovery Units | X | X | X |  | X
VVV | Publicly Owned Treatment Works | X | X | X |  | X
XXX | Ferroalloys Production | X | X | X |  | X
AAAA | Municipal Solid Waste Landfills | X | X | X |  | X
CCCC | Manufacturing of Nutritional Yeast | X | X | X |  | X
DDDD | Plywood and Composite Wood Products | X | X | X |  | X
EEEE | Organic Liquids Distribution (non-gasoline) | X | X | X |  | X
FFFF | Miscellaneous Organic Chemical Manufacturing | X | X | X |  | X
GGGG | Solvent Extraction for Vegetable Oil Production | X | X | X |  | X
HHHH | Wet-Formed Fiberglass Mat Production | X | X | X |  | X
IIII | Surface Coating of Automobiles and Light-Duty Trucks | X | X |  |  | X
JJJJ | Paper and Other Web Coating | X | X | X |  | X
KKKK | Surface Coating of Metal Cans | X | X | X |  | X
MMMM | Miscellaneous Metal Parts and Products | X | X | X |  | X
NNNN | Large Appliances | X | X | X |  | X
OOOO | Printing, Coating, and Dyeing of Fabrics and Other Textiles | X | X | X |  | X
PPPP | Surface Coating of Plastic Parts and Products | X | X |  |  | X
QQQQ | Wood Building Products | X | X | X |  | X
RRRR | Surface Coating of Metal Furniture | X | X | X |  | X
SSSS | Surface Coating of Metal Coil | X | X | X |  | X
TTTT | Leather Finishing Operations | X | X | X |  | X
UUUU | Cellulose Products Manufacturing | X | X | X |  | X
VVVV | Boat Manufacturing | X | X | X |  | X
WWWW | Reinforced Plastics Composites Production | X | X | X |  | X
XXXX | Tire Manufacturing | X | X | X |  | X
YYYY | Stationary Combustion Turbines | X | X | X |  | X
ZZZZ | Stationary Reciprocating Internal Combustion Engines | X | X |  |  | X
AAAAA | Lime Manufacturing Plants | X | X | X |  | X
BBBBB | Semiconductor Manufacturing | X | X | X |  | X
CCCCC | Coke Oven: Pushing, Quenching and Battery Stacks | X | X | X |  | X
DDDDD | Industrial, Commercial, and Institutional Boiler and Process Heaters | X | X |  |  | X
EEEEE | Iron and Steel Foundries | X | X | X |  | X
FFFFF | Integrated Iron and Steel | X | X | X |  | X
GGGGG | Site Remediation | X | X | X |  | X
HHHHH | Miscellaneous Coating Manufacturing | X | X | X |  | X
IIIII | Mercury Emissions from Mercury Cell Chlor-Alkali Plants | X | X | X |  | X
JJJJJ | Brick and Structural Clay Products Manufacturing | X | X | X |  | X
KKKKK | Clay Ceramics Manufacturing | X | X | X |  | X
LLLLL | Asphalt Roofing and Processing | X | X | X |  | X
MMMMM | Flexible Polyurethane Foam Fabrication Operation | X | X | X |  | X
NNNNN | Hydrochloric Acid Production | X | X | X |  | X
PPPPP | Engine Test Cells/Stands | X | X | X |  | X
QQQQQ | Friction Products Manufacturing | X | X | X |  | X
RRRRR | Taconite Iron Ore Processing | X | X | X |  | X
SSSSS | Refractory Products Manufacturing | X | X | X |  | X
TTTTT | Primary Magnesium Refining | X | X | X |  | X
UUUUU | Coal and Oil-Fired Electric Utility Steam Generating Units |  | X | X |  |
WWWWW | Hospital Ethylene Oxide Sterilizers |  | X | X |  |
YYYYY | Area Sources: Electric Arc Furnace Steelmaking Facilities |  | X | X |  |
ZZZZZ | Iron and Steel Foundries Area Sources |  | X | X |  |
BBBBBB | Gasoline Distribution Bulk Terminals, Bulk Plants, and Pipeline Facilities |  | X | X |  |
CCCCCC | Gasoline Dispensing Facilities |  | X | X |  |
DDDDDD | Polyvinyl Chloride and Copolymers Production Area Sources |  | X | X |  |
EEEEEE | Primary Copper Smelting Area Sources |  | X | X |  |
FFFFFF | Secondary Copper Smelting Area Sources |  | X | X |  |
GGGGGG | Primary Nonferrous Metals Area Sources—Zinc, Cadmium, and Beryllium |  | X | X |  |
HHHHHH | Paint Stripping and Miscellaneous Surface Coating Operations at Area Sources |  | X | X |  |
JJJJJJ | Industrial, Commercial, and Institutional Boilers and Process Heaters—Area Sources |  | X | X |  |
LLLLLL | Acrylic and Modacrylic Fibers Production Area Sources |  | X | X |  |
MMMMMM | Carbon Black Production Area Sources |  | X | X |  |
NNNNNN | Chemical Manufacturing Area Sources: Chromium Compounds |  | X | X |  |
OOOOOO | Flexible Polyurethane Foam Production and Fabrication Area Sources |  | X | X |  |
PPPPPP | Lead Acid Battery Manufacturing Area Sources |  | X | X |  |
QQQQQQ | Wood Preserving Area Sources |  | X | X |  |
RRRRRR | Clay Ceramics Manufacturing Area Sources |  | X | X |  |
SSSSSS | Glass Manufacturing Area Sources |  | X | X |  |
TTTTTT | Secondary Nonferrous Metals Processing Area Sources |  | X | X |  |
VVVVVV | Chemical Manufacturing Industry—Area Sources |  | X | X |  |
WWWWWW | Area Source Standards for Plating and Polishing Operations |  | X | X |  |
XXXXXX | Area Source Standards for Nine Metal Fabrication and Finishing Source Categories |  | X | X |  |
YYYYYY | Area Sources: Ferroalloys Production Facilities |  | X | X |  |
ZZZZZZ | Area Source Standards for Aluminum, Copper, and Other Nonferrous Foundries |  | X | X |  |
AAAAAAA | Asphalt Processing and Asphalt Roofing Manufacturing—Area Sources |  | X | X |  |
BBBBBBB | Chemical Preparations Industry—Area Sources |  | X | X |  |
CCCCCCC | Paint and Allied Products Manufacturing—Area Sources |  | X | X |  |
DDDDDDD | Prepared Feeds Manufacturing—Area Sources |  | X | X |  |
EEEEEEE | Gold Mine Ore Processing and Production—Area Sources |  | X | X |  |
HHHHHHH | Polyvinyl Chloride and Copolymers Production |  | X | X |  |
¹ Arizona Department of Environmental Quality.
² Maricopa County Air Quality Department.
³ Pima County Department of Environmental Quality.
⁴ Pinal County Air Quality Control District.
⁵ Gila River Indian Community Department of Environmental Quality. This table includes the GRIC DEQ only for purposes of identifying all state, local, and tribal agencies responsible for implementing part 63 standards within the geographical boundaries of the State of Arizona and does not establish any state regulatory authority in Indian country.

* * * * *

(29) * * *

(i) * * *

Delegation Status for Part 63 Standards—Nevada
Subpart | Description | NDEP ¹ | Washoe ² | Clark ³
A | General Provisions | X | X | X
F | Synthetic Organic Chemical Manufacturing Industry | X |  | X
G | Synthetic Organic Chemical Manufacturing Industry: Process Vents, Storage Vessels, Transfer Operations, and Wastewater | X |  | X
H | Organic Hazardous Air Pollutants: Equipment Leaks | X |  | X
I | Organic Hazardous Air Pollutants: Certain Processes Subject to the Negotiated Regulation for Equipment Leaks | X |  | X
J | Polyvinyl Chloride and Copolymers Production | X |  | X
L | Coke Oven Batteries | X |  | X
M | Perchloroethylene Dry Cleaning | X | X | X
N | Hard and Decorative Chromium Electroplating and Chromium Anodizing Tanks | X | X | X
O | Ethylene Oxide Sterilization Facilities | X | X | X
Q | Industrial Process Cooling Towers | X |  | X
R | Gasoline Distribution Facilities | X | X | X
S | Pulp and Paper | X |  | X
T | Halogenated Solvent Cleaning | X | X | X
U | Group I Polymers and Resins | X |  | X
W | Epoxy Resins Production and Non-Nylon Polyamides Production | X |  | X
X | Secondary Lead Smelting | X |  | X
Y | Marine Tank Vessel Loading Operations | X |  |
AA | Phosphoric Acid Manufacturing Plants | X |  | X
BB | Phosphate Fertilizers Production Plants | X |  | X
CC | Petroleum Refineries | X |  | X
DD | Off-Site Waste and Recovery Operations | X |  | X
EE | Magnetic Tape Manufacturing Operations | X |  | X
GG | Aerospace Manufacturing and Rework Facilities | X |  | X
HH | Oil and Natural Gas Production Facilities | X |  | X
II | Shipbuilding and Ship Repair (Surface Coating) | X |  | X
JJ | Wood Furniture Manufacturing Operations | X |  | X
KK | Printing and Publishing Industry | X | X | X
LL | Primary Aluminum Reduction Plants | X |  | X
MM | Chemical Recovery Combustion Sources at Kraft, Soda, Sulfite, and Stand-Alone Semichemical Pulp Mills | X |  | X
OO | Tanks—Level 1 | X |  | X
PP | Containers | X |  | X
QQ | Surface Impoundments | X |  | X
RR | Individual Drain Systems | X |  | X
SS | Closed Vent Systems, Control Devices, Recovery Devices and Routing to a Fuel Gas System or a Process | X |  | X
TT | Equipment Leaks—Control Level 1 | X |  | X
UU | Equipment Leaks—Control Level 2 | X |  | X
VV | Oil-Water Separators and Organic-Water Separators | X |  | X
WW | Storage Vessels (Tanks)—Control Level 2 | X |  | X
XX | Ethylene Manufacturing Process Units: Heat Exchange Systems and Waste Operations | X |  | X
YY | Generic MACT Standards | X |  | X
CCC | Steel Pickling | X |  | X
DDD | Mineral Wool Production | X |  | X
EEE | Hazardous Waste Combustors | X |  | X
GGG | Pharmaceuticals Production | X |  | X
HHH | Natural Gas Transmission and Storage Facilities | X |  | X
III | Flexible Polyurethane Foam Production | X |  | X
JJJ | Group IV Polymers and Resins | X |  | X
LLL | Portland Cement Manufacturing Industry | X |  | X
MMM | Pesticide Active Ingredient Production | X |  | X
NNN | Wool Fiberglass Manufacturing | X |  | X
OOO | Manufacture of Amino/Phenolic Resins | X |  | X
PPP | Polyether Polyols Production | X |  | X
QQQ | Primary Copper Smelting | X |  | X
RRR | Secondary Aluminum Production | X |  | X
TTT | Primary Lead Smelting | X |  | X
UUU | Petroleum Refineries: Catalytic Cracking, Catalytic Reforming, and Sulfur Recovery Units | X |  | X
VVV | Publicly Owned Treatment Works | X | X | X
XXX | Ferroalloys Production | X |  | X
AAAA | Municipal Solid Waste Landfills | X |  | X
CCCC | Manufacturing of Nutritional Yeast | X |  | X
DDDD | Plywood and Composite Wood Products | X |  | X
EEEE | Organic Liquids Distribution (non-gasoline) | X | X | X
FFFF | Miscellaneous Organic Chemical Manufacturing | X |  | X
GGGG | Solvent Extraction for Vegetable Oil Production | X |  | X
HHHH | Wet-Formed Fiberglass Mat Production | X |  | X
IIII | Surface Coating of Automobiles and Light-Duty Trucks | X |  | X
JJJJ | Paper and Other Web Coating | X |  | X
KKKK | Surface Coating of Metal Cans | X |  | X
MMMM | Miscellaneous Metal Parts and Products | X |  | X
NNNN | Large Appliances | X |  | X
OOOO | Printing, Coating, and Dyeing of Fabrics and Other Textiles | X |  | X
PPPP | Surface Coating of Plastic Parts and Products | X |  | X
QQQQ | Wood Building Products | X |  | X
RRRR | Surface Coating of Metal Furniture | X |  | X
SSSS | Surface Coating of Metal Coil | X |  | X
TTTT | Leather Finishing Operations | X |  | X
UUUU | Cellulose Products Manufacturing | X |  | X
VVVV | Boat Manufacturing | X |  | X
WWWW | Reinforced Plastics Composites Production | X | X | X
XXXX | Tire Manufacturing | X |  | X
YYYY | Stationary Combustion Turbines | X |  | X
ZZZZ | Stationary Reciprocating Internal Combustion Engines | X | X | X
AAAAA | Lime Manufacturing Plants | X |  | X
BBBBB | Semiconductor Manufacturing | X |  | X
CCCCC | Coke Oven: Pushing, Quenching and Battery Stacks | X |  | X
DDDDD | Industrial, Commercial, and Institutional Boiler and Process Heaters | X |  | X
EEEEE | Iron and Steel Foundries | X |  | X
FFFFF | Integrated Iron and Steel | X |  | X
GGGGG | Site Remediation | X |  | X
HHHHH | Miscellaneous Coating Manufacturing | X |  | X
IIIII | Mercury Emissions from Mercury Cell Chlor-Alkali Plants |  |  | X
JJJJJ | Brick and Structural Clay Products Manufacturing | X |  | X
KKKKK | Clay Ceramics Manufacturing | X |  | X
LLLLL | Asphalt Roofing and Processing | X |  | X
MMMMM | Flexible Polyurethane Foam Fabrication Operation | X |  | X
NNNNN | Hydrochloric Acid Production | X |  | X
PPPPP | Engine Test Cells/Stands | X |  | X
QQQQQ | Friction Products Manufacturing | X |  | X
RRRRR | Taconite Iron Ore Processing |  |  | X
SSSSS | Refractory Products Manufacturing | X |  | X
TTTTT | Primary Magnesium Refining |  |  | X
WWWWW | Hospital Ethylene Oxide Sterilizers | X | X | X
YYYYY | Electric Arc Furnace Steelmaking Facilities (area sources) | X |  | X
ZZZZZ | Iron and Steel Foundries Area Sources | X |  | X
BBBBBB | Gasoline Distribution Bulk Terminals, Bulk Plants and Pipeline Facilities | X | X | X
CCCCCC | Gasoline Dispensing Facilities | X | X | X
DDDDDD | Polyvinyl Chloride and Copolymers Production Area Sources | X |  | X
EEEEEE | Primary Copper Smelting Area Sources | X |  | X
FFFFFF | Secondary Copper Smelting Area Sources | X |  | X
GGGGGG | Primary Nonferrous Metals Area Sources—Zinc, Cadmium, and Beryllium | X |  | X
HHHHHH | Paint Stripping and Miscellaneous Surface Coating Operations at Area Sources | X | X | X
JJJJJJ | Industrial, Commercial, and Institutional Boilers and Process Heaters—Area Sources | X |  |
LLLLLL | Acrylic and Modacrylic Fibers Production Area Sources | X |  | X
MMMMMM | Carbon Black Production Area Sources | X |  | X
NNNNNN | Chemical Manufacturing Area Sources: Chromium Compounds | X |  | X
OOOOOO | Flexible Polyurethane Foam Production and Fabrication Area Sources | X | X | X
PPPPPP | Lead Acid Battery Manufacturing Area Sources | X |  | X
QQQQQQ | Wood Preserving Area Sources | X |  | X
RRRRRR | Clay Ceramics Manufacturing Area Sources | X |  | X
SSSSSS | Glass Manufacturing Area Sources | X |  | X
TTTTTT | Secondary Nonferrous Metals Processing Area Sources | X |  | X
VVVVVV | Chemical Manufacturing Industry—Area Sources | X |  | X
WWWWWW | Area Source Standards for Plating and Polishing Operations | X | X | X
XXXXXX | Area Source Standards for Nine Metal Fabrication and Finishing Source Categories | X | X | X
YYYYYY | Area Sources: Ferroalloys Production Facilities |  |  | X
ZZZZZZ | Area Source Standards for Aluminum, Copper, and Other Nonferrous Foundries | X |  | X
AAAAAAA | Asphalt Processing and Asphalt Roofing Manufacturing—Area Sources | X |  | X
BBBBBBB | Chemical Preparations Industry—Area Sources | X |  | X
CCCCCCC | Paint and Allied Products Manufacturing—Area Sources | X |  | X
DDDDDDD | Prepared Feeds Manufacturing—Area Sources |  |  | X
EEEEEEE | Gold Mine Ore Processing and Production—Area Sources | X |  | X
¹ Nevada Division of Environmental Protection.
² Washoe County District Health Department, Air Quality Management Division.
³ Clark County, Department of Air Quality.

* * * * *

[FR Doc. 2017-09495 Filed 5-10-17; 8:45 am]

BILLING CODE 6560-50-P